NATIONAL COUNCIL ON DISABILITY

Sunshine Act Meetings

Time and Dates: The Members of the National Council on Disability (NCD) will hold a quarterly meeting on Thursday and Friday, February 23 and 24, 2017 in Detroit, Michigan, from 9:00 a.m.-4:15 p.m., Eastern, on Thursday, February 23; and from 9:00 a.m.-12:30 p.m., Eastern, on Friday, February 24.

Place: The meeting will occur at the Detroit Marriott at the Renaissance Center located at 400 Renaissance Drive, Detroit, MI 48243. Interested parties may join the meeting in person at the meeting location or may join the phone line in a listening-only capacity (other than the period allotted for public comment noted below) using the following call-in information: Teleconference number: 888-417-8525; Conference ID: 9110702; Conference Title: NCD Meeting; Host Name: Clyde Terry.

Matters to be Considered: The Council will receive panel presentations on education and mental health; the connection between disability and poverty; economic mobility gridlock; what a system would look like to help someone with a disability escape poverty; and on autonomous vehicle technology and people with disabilities. The Council will also receive agency updates on finance, governance, and other business. The Council will receive public comment on education and mental health; economic mobility gridlock; and on what a system would look like that helps people with disabilities escape poverty.

Agenda: The times provided below are approximations for when each agenda item is anticipated to be discussed (all times Eastern):

Thursday, February 23

9:00-9:30 a.m.—Welcome and Introductions

9:30-10:15 a.m.—(Panel Presentation) Connection between disability and poverty in Michigan

10:15-10:30 a.m.—Break

10:30-11:15 a.m.—(Panel Presentation) Education and mental health

11:15-11:45 a.m.—Town hall to receive comments on education and mental health

11:45 a.m.-1:15 p.m.—Lunch Break

1:15-2:00 p.m.—(Panel Presentation) Economic mobility gridlock: systemic challenges and incompatibilities, and contradictions

2:00-2:30 p.m.—Town hall to receive comments on economic mobility gridlock

2:30-2:45 p.m.—Break

2:45-3:45 p.m.—(Panel Presentation) What would a system look like if it was designed to get a person with a disability out of poverty?

3:45-4:15 p.m.—Town hall to receive comments on what a system would look like if it was designed to get a person with a disability out of poverty

4:15 p.m.—Adjournment

Friday, February 24

9:00-11:15 a.m.—(Panel Presentation) Autonomous vehicle discussion

11:15-11:30 a.m.—Break

11:30 a.m.-12:30 p.m.—NCD business meeting

12:30 p.m.—Adjournment

Public Comment: To better facilitate NCD's public comment, any individual interested in providing public comment is asked to register his or her intent to provide comment in advance by sending an email to PublicComment@ncd.gov with the subject line “Public Comment” with your name, organization, state, and topic of comment included in the body of your email. Full-length written public comments may also be sent to that email address. All emails to register for public comment at the quarterly meeting must be received by Wednesday, February 22, 2017. Priority will be given to those individuals who are in-person to provide their comments during the town hall portions of the agenda. Those commenters on the phone will be called on according to the list of those registered via email. Due to time constraints, NCD asks all commenters to limit their comments to three minutes. Comments received at the February quarterly meeting will be limited to those regarding education and mental health; economic mobility gridlock; and what a system would look like if it was designed to get a person with a disability out of poverty, each during its respective slot of time for the themed town hall as previously noted in the agenda.

Contact Person: Anne Sommers, NCD, 1331 F Street NW., Suite 850, Washington, DC 20004; 202-272-2004 (V), 202-272-2074 (TTY).

Accommodations: A CART streamtext link has been arranged for this teleconference meeting. The web link to access CART on both Thursday and on Friday, February 23-24, 2017 is: https://www.streamtext.net/player?event=NCD. Those who plan to attend the meeting in-person and require accommodations should notify NCD as soon as possible to allow time to make arrangements. To help reduce exposure to fragrances for those with multiple chemical sensitivities, NCD requests that all those attending the meeting in person refrain from wearing scented personal care products such as perfumes, hairsprays, and deodorants.

Dated: February 7, 2017.
Rebecca Cokley,
Executive Director.

[FR Doc. 2017-02828 Filed 2-7-17; 4:15 pm]

BILLING CODE 8421-03-P